FEDERAL RESERVE SYSTEM

Irwin Union Bank & Trust Company, Columbus, Indiana; a De Novo Corporation To Do Business Under Section 25A of the Federal Reserve Act

An application has been submitted for the Board's approval of the organization of a corporation to do business under section 25A of the Federal Reserve Act (Edge Corporation) 12 U.S.C. 611 et seq. The factors that are to be considered in acting on the application are set forth in the Board's Regulation K (12 CFR 211.4).

The application may by inspected at the Federal Reserve Bank of Chicago or at the Board of Governors. Any comment on an application that requests a hearing must include a statement of why a written presentation would not suffice in lieu of a hearing, identify specifically any questions of fact that are in dispute, and summarize the evidence that would be presented at a hearing.

Comments regarding the application must be received by the Reserve Bank indicated or at the offices of the Board of Governors not later than June 13, 2000.

A. Federal Reserve Bank of Chicago (Phillip Jackson, Applications Officer) 230 South LaSalle Street, Chicago, Illinois 60690-1414:

1. Irwin Union Bank & Trust Company, Columbus, Indiana; to establish Irwin International Corporation, Columbus, Indiana, which will acquire 78 percent of the outstanding voting securities of Onset Capital Corporation, Vancouver, Canada, and thereby engage in leasing real or personal property, pursuant to § 25A of the Federal Reserve Act.

Board of Governors of the Federal Reserve System, May 9, 2000.
Robert deV. Frierson,
Associate Secretary of the Board.

[FR Doc. 00-12061 Filed 5-12-00; 8:45 am]

BILLING CODE 6210-01-P